DEPARTMENT OF HOUSING AND URBAN DEVELOPMENT

[Docket No. FR-5187-N-45]

Notice of Submission of Proposed Information Collection to OMB; Emergency Comment Request; Applications for Housing Assistance Payments and Special Claims Processing and Owner Certification With Tenant Eligibility and Rent Procedures

AGENCY: Office of Program Systems Management.

ACTION: Notice of proposed information collection.

SUMMARY: The proposed information collection requirement described below has been submitted to the Office of Management and Budget (OMB) for emergency review and approval, as required by the Paperwork Reduction Act. The Department is soliciting public comments on the subject proposal.

DATES: Comments Due Date: August 5, 2008.

ADDRESSES: Interested persons are invited to submit comments regarding this proposal. Comments must be received within fourteen (14) days from the date of this Notice. Comments should refer to the proposal by name/or OMB approval number and should be sent to: HUD Desk Officer, Office of Management and Regulatory Affairs, Office of Management and Budget, New Executive Office Building, Washington, DC 20503.

FOR FURTHER INFORMATION CONTACT: Lillian Deitzer, Paperwork Reduction Act Compliance Officer, QDAM, Department of Housing and Urban Development, 451 Seventh Street, SW., Washington, DC 20410; e-mail Lillian_L._Deitzer@HUD.gov; telephone (202) 402-8048. This is not a toll-free number. Copies of available documents submitted to OMB may be obtained from Ms. Deitzer.

SUPPLEMENTARY INFORMATION: This Notice informs the public that the U.S. Department of Housing and Urban Development (HUD) has submitted to OMB, for emergency processing, a revised collection for submission of Applications for Housing Assistance Payments and Special Claims Processing, and Owner Certification with Tenant Eligibility and Rent Procedures.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Applications for Housing Assistance Payments and Special Claims Processing; and Owner Certification with Tenant Eligibility and Rent Procedures.

Description of Information Collection: This is a revised collection for submitting Applications for Housing Assistance Payments and determining Owner Certification of Compliance with Tenant Eligibility and Rent Procedures for Section 8, Rent Supplement, Rental Assistance Payment (RAP), Section 202 Project Assistance Contracts (PACs) and Section 811 and 202 Project Rental Assistance Contracts (PRACS) program units. Special Claims for damages, unpaid rent loss, and vacancy claims are available for the Section 8, Section 202 PACs, and Section 811 and Section 202 PRACS programs.

Each HUD program has an assistance payments contract. These contracts indicate that HUD will make monthly assistance payments to Project Owners/Management Agents on behalf of the eligible households who reside in the assisted units. Project Owners are required to sign a certification on the Housing Owner's Certifications and Application for Housing Assistance form which states: (1) Each tenant's eligibility and assistance payments was computed in accord with HUD's regulations administrative procedures and the Contract, and are payable under the Contract; (2) The units for which assistance is being billed are decent, safe, sanitary, and occupied or available for occupancy; (3) No amount included on the bill has been previously billed or paid; (4) All facts and data on which the payment request is based are true and accurate; and (5) That no payments have been paid or will be paid from the tenant or any public or private source for units beyond that authorized by the assistance contract, or lease, unless permitted by HUD.

This revised information collection provides a standard for Project Owners/Management Agents to report Adjustments to Schedule of Tenant Assistance Payments Due, Miscellaneous Accounting Request for Schedule of Tenant Assistance Due and Approved Special Claims for Schedule of Tenant Assistance Payments Due utilizing data already available in their software. The revised information collection further provides for distinct and increased clarity in reporting Partial Certifications such as Gross Rent Changes, Unit Transfers, Terminations and Move Outs.

OMB Control Number: 2502-0182.

Agency Form Numbers: HUD-52670, HUD-52670-A Part 1, HUD-52670-A Part 2, HUD-52670-A Part 3, HUD-52670-A Part 4, HUD-52670-A Part 5, and HUD-52671-A/B/C/D.

Members of Affected Public: Not-for-profit institutions.

OMB Control Number: 2502-0204.

Agency Form Numbers: HUD-50059, HUD-50059-A, HUD-9887/9887-A, HUD-27061-H, HUD-90100, HUD-90101, HUD-90102, HUD-90103, HUD-90104, HUD-90105-a, HUD-90105-b, HUD-90105-c, HUD-90105-d, and HUD-90106.

Members of Affected Public: Not-for-profit institutions.

Estimation of the total numbers of hours needed to prepare the information collection (2502-0182) including number of respondents, frequency of responses, and hours of response: An estimation of the annual total number of hours needed to prepare the information collection is 301,951, number of respondents is 24,325, frequency response is 12 per annum, and the total hours per respondent is 6.65.

Estimation of the total number of hours needed to prepare the information collection (2502-0204) including number of respondents, frequency of responses, and hours of response: An estimation of the annual total number of hours needed to prepare the information collection is 1,920,431, number of respondents is 1,920,431, frequency response is 1 per annum, and the total hours per respondent is 1.71.

Authority: The Paperwork Reduction Act of 1995, 44 U.S.C. Chapter 35, as amended.

Dated: July 17, 2008.
Lillian L. Deitzer,
Departmental Paperwork Reduction Act Officer, Office of the Chief Information Officer.

[FR Doc. E8-16754 Filed 7-21-08; 8:45 am]

BILLING CODE 4210-67-P